DEPARTMENT OF COMMERCE

National Oceanic and Atmospheric Administration

RIN 0648-XA763

New England Fishery Management Council; Public Meetings

AGENCY: National Marine Fisheries Service (NMFS), National Oceanic and Atmospheric Administration (NOAA), Commerce.

ACTION: Notice; public meetings.

SUMMARY: The New England Fishery Management Council's (Council) Groundfish Advisory Panel, Recreational Advisory Panel and Groundfish Oversight Committee will hold three meetings to consider actions affecting New England fisheries in the exclusive economic zone (EEZ).

DATES: The meetings will be held November 1-2, 2011. For specific dates and times, see SUPPLEMENTARY INFORMATION.

ADDRESSES: These meetings will be held at the Radisson Hotel Plymouth Harbor, 180 Water Street, Plymouth, MA 02360; telephone: (508) 747-4900 and fax: (508) 746-5386. For specific locations, see SUPPLEMENTARY INFORMATION.

Council address: New England Fishery Management Council, 50 Water Street, Mill #2, Newburyport, MA 01950.

FOR FURTHER INFORMATION CONTACT: Paul J. Howard, Executive Director, New England Fishery Management Council; telephone: (978) 465-0492.

SUPPLEMENTARY INFORMATION: The schedule and agenda for the following three meetings are as follows:

Council Meetings: Locations, Schedules, and Agendas

1. Tuesday, November 1, 2011 Beginning at 9 a.m.—Groundfish Advisory Panel

The Groundfish Advisory Panel (GAP) will meet to develop advice that will be considered by the Groundfish Committee at a November 2, 2011 meeting, and by the full Council at its November 2011 meeting. The GAP will review draft Framework Adjustment 47 to the Northeast Multispecies Fishery Management Plan (FW 47) and provide recommendations for preferred alternatives. FW 47 will modify specifications for the fishery and consider changes to accountability measures. They will also consider draft groundfish management priorities for 2012 and may develop recommendations for those priorities. The GAP may review information from a sector workshop in October and may prioritize the issues raised at that workshop.

2. Tuesday, November 1, 2011 Beginning at 9 a.m.—Recreational Advisory Panel

The Recreational Advisory Panel (RAP) will meet to develop advice that will be considered by the Groundfish Committee at a November 2, 2011 meeting, and by the full Council at its November 15-17, 2011 meeting. The RAP will review information on fishing year 2010 catches and will develop advice on accountability measures (AMs) for any stocks where catches exceeded the recreational fishery annual catch limit. Indications are that an AM will be needed for Gulf of Maine haddock. The RAP will also review groundfish management priorities for 2012 and may develop recommendations for those priorities.

3. Wednesday, November 2, 2011 Beginning at 9 a.m.—Groundfish Oversight Committee

The Groundfish Committee will meet to continue development of Framework Adjustment 47 to the Northeast Multispecies Fishery Management Plan (FW 47) and other issues. During its deliberations the Committee will consider the advice of the Groundfish Advisory Panel and the Recreational Advisory Panel. FW 47 will modify specifications for the fishery and consider changes to accountability measures, as well as adjust other measures. Changes to the specifications could include the adoption of sub-annual catch limits that limit the catches of Southern New England/Mid-Atlantic Bight (SNE/MAB) windowpane and/or SNE winter flounder by the scallop fishery, and SNE/MAB windowpane by other fisheries. The Committee will review draft FW 47 and may develop recommendations for preferred alternatives that will be presented to the Council. The Committee will review groundfish management priorities for 2012 and will develop a Committee recommendation on these priorities. The Committee will also consider information from a sector review workshop planned for October and may prioritize the issues identified at the workshop that need to be addressed to improve sector performance. Finally, the Committee will develop advice on any accountability measures that may be needed for the recreational fishery (indications are that an AM will be needed for Gulf of Maine haddock). Committee recommendations will be presented to the Council etc. Other business may be discussed.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: October 12, 2011.
Tracey L. Thompson,
Acting Director, Office of Sustainable Fisheries, National Marine Fisheries Service.

[FR Doc. 2011-26758 Filed 10-14-11; 8:45 am]

BILLING CODE 3510-22-P